DEPARTMENT OF TRANSPORTATION

Office of the Secretary

[Docket No. DOT-OST-2012-0087]

Advisory Committee for Aviation Consumer Protection

AGENCY: Office of the Secretary (OST), Department of Transportation (DOT).

ACTION: Notice of Intent to Continue the Advisory Committee for Aviation Consumer Protection (“ACACP” or “Committee”); Solicitation of Applications and Nominations for Membership.

SUMMARY: The Department of Transportation (“Department,” “DOT,” or “we”) announces its intention to continue the ACACP as a discretionary Federal advisory committee in the event that the authority for the Committee under section 411 of the FAA Modernization and Reform Act of 2012 (Pub. L. 112-95, 126 Stat. 11), as amended, is not extended by Congress through legislation. The current authorization is set to expire on July 15, 2016. The Department is soliciting applications and nominations for new members of the Committee.

DATES: Nominations for ACACP membership must be received on or before June 27, 2016.

FOR FURTHER INFORMATION CONTACT: If you have questions about the ACACP, you may contact Stuart Hindman, Trial Attorney, U.S. Department of Transportation, by email at stuart.hindman@dot.gov, or by telephone at 202-366-9342. You may also contact Vinh Nguyen, at vinh.nguyen@dot.gov, or by telephone at 202-366-9342.

SUPPLEMENTARY INFORMATION:

Background

On May 24, 2012, the Secretary, as mandated by section 411 of the FAA Modernization and Reform Act of 2012 (Pub. L. 112-95, 126 Stat. 11 (2012)) (2012 FAA Act), established the Advisory Committee for Aviation Consumer Protection (ACACP). The committee's charter, drafted in accordance with the Federal Advisory Committee Act (FACA), as amended, 5 U.S.C. App. 2, sets forth policies for the operation of the advisory committee and is available online at http://www.facadatabase.gov/committee/charters.aspx?cid=2448&aid=47. That charter of the ACACP was set to expire on September 30, 2015, but the Airport and Airway Extension Act of 2015 (Pub. L. 114-55, 129 Stat. 522) and then the Airport and Airways Extension Act of 2016 (Pub. L. 114-141, 130 Stat 322) extended the duration of the Committee to July 15, 2016.

Since the ACACP has been established, it has held nine meetings and examined a broad range of issues affecting consumers which culminated in the Committee submitting two reports to the Secretary for improving existing aviation consumer protection programs and for establishing new ones, if needed. A third report from the ACACP is currently set to be provided to the Secretary before July 15, 2016.

The Department has implemented a number of the recommendations from the ACACP, such as finalizing a rulemaking mandating service animal relief areas, with limited exceptions, be located in the sterile area of each airport terminal.¹ The Department has also issued a rule requiring the accessibility of airport kiosks and airline Web sites as recommended by the ACACP.² Additionally, the Committee recommended that the Department work with the airlines to survey how they define certain terms frequently used in their contracts of carriage and customer service plans. The Department worked with Airlines for America to develop such a document, which it then placed on its Web site to assist consumers with understanding the terms and conditions of their travel. See https://www.transportation.gov/airconsumer/common-terms-air-travel. Various recommendations of the Committee, such as ensuring transparency in air carrier pricing, requiring ticket agents to disclose they do not offer for sale all airlines' tickets, and expanding the airlines that report quality service data (e.g., on-time performance) to the Department, are all being considered by the Department through rulemaking.³

¹ See Nondiscrimination on the Basis of Disability in Programs or Activities Receiving Federal Financial Assistance (U.S. Airports), Final Rule, 80 FR 46508 (August 5, 2015).

² See Nondiscrimination on the Basis of Disability in Air Travel: Accessibility of Web Sites and Automated Kiosks at U.S. Airports, Final Rule, 78 FR 67882 (November 12, 2013).

³ See Airline Pricing Transparency and Other Consumer Protection Issues, Notice of Proposed Rulemaking, 79 FR 29970 (May 23, 2014).

The ACACP has contributed significantly to the Department's aviation consumer protection program as it provides a forum for public discussion of important consumer issues and helps air and address issues that do not have simple answers. As mentioned earlier, the statutory termination date for the ACACP was originally established by the 2012 FAA Act as September 30, 2015, but was extended by the Airport and Airway Extension Act of 2015 (Pub. L. 114-55, 129 Stat. 522), and further extended by the Airport and Airway Extension Act of 2016 (Pub. L. 114-141, 130 Stat 322) to the current termination date of July 15, 2016. If Congress extends the termination date of the ACACP through legislation, the Committee will continue as mandated by Congress. If Congress does not extend the ACACP beyond July 15, 2016, the Secretary, under the authority of FACA, will continue the ACACP as a discretionary advisory committee.

The Department is currently in the process of updating the ACACP's charter to provide for this contingency and is making other minor amendments, such as clarifying that the Committee's work should concern aviation consumer protection issues that fall within the current statutory authority of the Department. Additionally, the Secretary is soliciting applications and nominations for membership to the ACACP. The membership of the committee shall be composed of a representative each of the following:

• Air carriers;

• Airport operators;

• State or local governments with expertise in consumer protection matters; and

• Nonprofit public interest groups with expertise in consumer protection matter.

This notice requests nominations and applications for members of the ACACP to ensure a wide range of candidates and a balanced committee. The Secretary of Transportation will appoint four Committee members, who will each serve for a term of two years.

The Department will choose the Committee members based on three main criteria: (1) Representativeness (does the applicant represent a significant one of the four groups outlined above?); (2) expertise (does the applicant bring essential knowledge, expertise and/or experience regarding aviation consumer protection and the topic area(s) of interest that will enrich the discussion of the available options and their respective costs and benefits?); and (3) willingness to participate fully (is the applicant able and willing to attend meetings and generally contribute constructively to a rigorous policy development process?).

Individuals applying for membership should keep in mind that Committee members will be selected based on their ability and willingness to effectively represent the interests of all stakeholders in their category, as distinct from their parochial or personal interests. For example, an individual selected to serve on the Committee as a representative of air carriers would represent not only his or her own airline, but all air carriers. As such, the individual would be expected to consult with other airlines in bringing issues to the table and making decisions on proposals before the Committee.

The Department's Office of Aviation Enforcement and Proceedings will provide appropriate funding, logistics, administrative, and technical support for the Committee. DOT subject matter experts will also provide support to the Committee. At this time, we anticipate that the ACACP will meet twice a year at the Department's headquarters in Washington, DC. Although we do not have proposed dates for these meetings at this time, we anticipate one meeting to be in the spring and one meeting to be in the fall each year. Individuals interested in serving on the Committee should plan to attend each of these meetings in person.

Process and Deadline for Submitting Nominations: Organizations and/or persons who believe they meet the criteria listed above are invited to apply for membership on the ACACP to represent the interests of their stakeholder category. Organizational applicants should indicate both the stakeholder category they propose to represent and the individual from their organization applying to serve on the Committee; describe the responsibilities and qualifications of that person; and describe the qualifications of any alternates or professional colleagues who will be assisting the principal representative in the process.

Qualified individuals can self-nominate or be nominated by any stakeholder or stakeholder organization. To be considered for the ACACP, nominators should submit the following information:

(1) Name, title, and relevant contact information (including phone and email address) and the interests such a person shall represent;

(2) A letter of support from a company, union, trade association, or non-profit organization on letterhead containing a brief description why the nominee is qualified and should be considered for membership;

(3) Short biography of nominee including professional and academic credentials; and

(4) An affirmative statement that the nominee meets all Committee eligibility requirements.

All individuals who wish to serve on the ACACP should apply for membership by supplying the information listed above. Please do not send company, trade association, or organization brochures or any other information. Materials submitted should total two single-spaced pages or less. Should more information be needed, DOT staff will contact the nominee, obtain information from the nominee's past affiliations, or obtain information from publicly available sources, such as the Internet. Nominations may be emailed to ACACP@dot.gov. Nominations must be received by June 27, 2016. Nominations are open to all individuals without regard to race, color, religion, sex, national origin, age, disability, marital status, or sexual orientation. Notice to the public will be published in the Federal Register at least 15 days prior to each plenary meeting of the ACACP and members of the public will be invited to attend.

Viewing Documents

You may view any documents mentioned in this preamble as being available in the docket at http://www.regulations.gov. After entering the docket number, click the link to “Open Docket Folder” and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Submitting Nominations

All nomination materials should be submitted electronically via email to ACACP@dot.gov. Any person needing accessibility accommodations with submitting nominations should contact Stuart Hindman, Trial Attorney, U.S. Department of Transportation, by email at stuart.hindman@dot.gov, or by telephone at 202-366-9342.

Dated: May 19, 2016.
Anthony R. Foxx,
Secretary.

[FR Doc. 2016-12602 Filed 5-26-16; 8:45 am]

BILLING CODE 4910-9X-P